NUCLEAR REGULATORY COMMISSION

[Docket Nos. 50-409 and 72-046; EA-19-077; NRC-2019-0110]

In the Matter of LaCrosseSolutions, LLC; La Crosse Boiling Water Reactor

AGENCY: Nuclear Regulatory Commission.

ACTION: Direct transfer of license; extending effectiveness of order.

SUMMARY: The U.S. Nuclear Regulatory Commission (NRC) is issuing an order to extend the effectiveness of a September 24, 2019, order, which approved the direct transfer of Possession Only License No. DPR-45 for the La Crosse Boiling Water Reactor from the current holder, LaCrosseSolutions, LLC, to Dairyland Power Cooperative and approved a conforming license amendment, for 3 months beyond its current December 24, 2022, expiration date.

DATES: The order was issued on December 8, 2022, and was effective upon issuance.

ADDRESSES: Please refer to Docket ID NRC-2019-0110 when contacting the NRC about the availability of information regarding this document. You may obtain publicly available information related to this document using any of the following methods:

• Federal Rulemaking Website: Go to https://www.regulations.gov and search for Docket ID NRC-2019-0110. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The request for extending the effectiveness of the transfer order is available in ADAMS under Accession No. ML22335A085. The order extending the effectiveness of the approval of the transfer of license and conforming amendment is available in ADAMS under Accession Package No. ML22321A309.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Marlayna Doell, Office of Nuclear Material Safety and Safeguards, U.S. Nuclear Regulatory Commission, Washington, DC 20555-0001; telephone: 301-415-3178; email: Marlayna.Doell@nrc.gov.

SUPPLEMENTARY INFORMATION: The text of the order is attached.

Dated: December 12, 2022.
For the Nuclear Regulatory Commission.
Shaun M. Anderson,
Chief, Reactor Decommissioning Branch, Division of Decommissioning, Uranium Recovery and Waste Programs, Office of Nuclear Material Safety and Safeguards.

Attachment—Order Extending the Effectiveness of the Approval of the Transfer of License and Conforming Amendment

UNITED STATES OF AMERICA

NUCLEAR REGULATORY COMMISSION

[NRC-2019-0110]

In the Matter of LaCrosseSolutions, LLC; La Crosse Boiling Water Reactor EA-19-077; Docket Nos. 50-409 and 72-046; License No. DPR-45 Order Extending the Effectiveness of the Approval of the Transfer of License and Conforming Amendment

I.

LaCrosseSolutions, LLC is the holder of the U.S. Nuclear Regulatory Commission (NRC, the Commission) Possession Only License No. DPR-45, with respect to the possession, maintenance, and decommissioning of the La Crosse Boiling Water Reactor (LACBWR). Operation of the LACBWR is no longer authorized under this license. The LACBWR facility is located in Vernon County, Wisconsin.

II.

By Order dated September 24, 2019 (Transfer Order), the Commission consented to the transfer of the LACBWR license to Dairyland Power Cooperative and approved a conforming license amendment in accordance with Section 50.80, “Transfer of licenses,” and Section 50.90, “Application for amendment of license, construction permit, or early site permit,” of Title 10 of the Code of Federal Regulations (10 CFR). By its terms, the Transfer Order becomes null and void if the license transfer is not completed within 1 year unless, upon application and for good cause shown, the Commission extends the Transfer Order's September 24, 2020, expiration date. By letter dated June 24, 2020, LaCrosseSolutions, LLC submitted a request to extend the effectiveness of the Transfer Order by 6 months. By Order dated September 1, 2020 (First Extension Order), the Commission extended the Transfer Order's expiration date to March 24, 2021. By letter dated February 2, 2021, LaCrosseSolutions, LLC submitted a request to extend the effectiveness of the Transfer Order by an additional 6 months. By Order dated March 9, 2021 (Second Extension Order), the Commission extended the Transfer Order's expiration date to September 24, 2021. Subsequently, by letter dated August 17, 2021, LaCrosseSolutions, LLC submitted a request to extend the effectiveness of the Transfer Order by an additional 12 months. By Order dated August 30, 2021 (Third Extension Order), the Commission extended the Transfer Order's expiration date to September 24, 2022. Subsequently, by letter dated August 16, 2022, LaCrosseSolutions, LLC submitted a request to extend the effectiveness of the Transfer Order by an additional 3 months. By Order dated September 9, 2022 (Fourth Extension Order), the Commission extended the Transfer Order's expiration date to December 24, 2022.

III.

By letter dated November 23, 2022, LaCrosseSolutions, LLC submitted a request to extend the effectiveness of the Transfer Order by an additional 3 months, until March 24, 2023. As stated in the letter, the extension would allow the NRC staff sufficient time to complete its review of the LACBWR Final Survey Status Reports (FSSRs) and their associated Release Records. LaCrosseSolutions, LLC further stated that its responses to NRC staff requests for additional information (RAIs) regarding the LACBWR FSSRs are also under review by the NRC staff, and it is anticipated that additional time will be needed to finalize the staff's Safety Evaluation Report and approve the revised FSSRs. LaCrosseSolutions, LLC additionally notes in its letter that the extension would provide the staff with additional time to make a final determination regarding the release of land for unrestricted use. The NRC staff also concludes that the extension would help facilitate preparations to transfer the license from LaCrosseSolutions, LLC to Dairyland Power Cooperative.

Based on the above, the NRC has determined that LaCrosseSolutions, LLC has shown good cause for extending the effectiveness of the Transfer Order by an additional 3 months, as requested.

IV.

Accordingly, pursuant to Sections 161b, 161i, and 184 of the Atomic Energy Act of 1954, as amended; Title 42 of the United States Code Sections 2201(b), 2201(i), and 2234; and the Commission's regulations at 10 CFR 50.80, IT IS HEREBY ORDERED that the expiration date of the Transfer Order, as extended by the Fourth Extension Order, is further extended until March 24, 2023. If the subject license transfer from LaCrosseSolutions, LLC to Dairyland Power Cooperative is not completed by March 24, 2023, the Transfer Order shall become null and void; provided, however, that upon written application and for good cause shown, such date may be extended by order.

This Order is effective upon issuance.

Dated this 8th day of December 2022.

For the Nuclear Regulatory Commission.

John W. Lubinski,

Director, Office of Nuclear Material Safety and Safeguards.

[FR Doc. 2022-27265 Filed 12-15-22; 8:45 am]

BILLING CODE 7590-01-P